DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: 2011 National Survey on Drug Use and Health (OMB No. 0930-0110)—Revision

The National Survey on Drug Use and Health (NSDUH), formerly the National Household Survey on Drug Abuse (NHSDA) is a survey of the civilian, non-institutionalized population of the United States 12 years old and older. The survey is used to determine the prevalence of use of tobacco products, alcohol, illicit substances, and illicit use of prescription drugs. The survey is also used to collect information on mental health problems and the utilization of substance abuse and mental health services. The results are used by SAMHSA, ONDCP, Federal government agencies, and other organizations and researchers to establish policy, direct program activities, and better allocate resources.

The 2011 NSDUH will continue conducting a follow-up clinical interview with a subsample of approximately 1,500 respondents. The design of this study is based on the recommendations from a panel of expert consultants convened by the Center for Mental Health Services (CMHS), SAMHSA, to discuss mental health surveillance data collection strategies. The goal is to create a statistically sound measure that may be used to estimate the prevalence of Serious Mental Illness (SMI) among adults (age 18+).

For the 2011 NSDUH, no questionnaire changes are proposed.

As with all NSDUH/NHSDA surveys conducted since 1999, the sample size of the survey for 2011 will be sufficient to permit prevalence estimates for each of the fifty states and the District of Columbia.

Because the NSDUH collects data on substance use, mental health and the utilization of substance abuse and mental health services, it is an appropriate and convenient vehicle to measure the impact of the Deepwater Horizon oil spill on residents of that region. Therefore, SAMHSA is planning to expand the NSDUH by oversampling the geographic region impacted by the oil spill. The current NSDUH sample design will be implemented and an oversampling method that results in an additional 2,000 completed interviews in the gulf coast region will be employed. The additional interviews will be concentrated in the coastal counties of Alabama, Florida, Louisiana, and Mississippi. All survey instruments and protocols will be identical for this additional sample. The total number of respondents for the 2011 NSDUH will be 69,500, or 2,000 cases more than the planned sample size for 2010.

Though there will be some increase in the sample for all four states involved in the Deepwater Horizon event (Alabama, Florida, Louisiana, and Mississippi), specific counties in the gulf coast region were chosen for focused oversampling. These counties were chosen based on the following criteria:

• Claims activity to BP for economic and related health needs;

• County involvement with Department of Education and Administration for Children and Families programming; and

• State assessment of impacted counties based on consultation with SAMHSA during the preparation of aid applications.

Counties Designated as the Most Affected Areas
State name | County/parish name
Alabama | Baldwin
Alabama | Clarke
Alabama | Escambia
Alabama | Mobile
Alabama | Monroe
Alabama | Washington
Florida | Bay
Florida | Escambia
Florida | Franklin
Florida | Gulf
Florida | Okaloosa
Florida | Santa Rosa
Florida | Wakulla
Florida | Walton
Louisiana | Iberia
Louisiana | Jefferson
Louisiana | Lafayette
Louisiana | Lafourche
Louisiana | Orleans
Louisiana | Plaquemines
Louisiana | St. Bernard
Louisiana | St. Martin
Louisiana | St. Mary
Louisiana | St. Tammany
Louisiana | Terrebonne
Louisiana | Vermilion
Mississippi | George
Mississippi | Hancock
Mississippi | Harrison
Mississippi | Jackson
Mississippi | Pearl River
Mississippi | Stone

The total annual burden estimate is shown below:

Instrument | Number of respondents | Responses per respondent | Hours per response | Total burden hours | Hourly wage rate | Annualized hourly costs
Household Screening | 196,720 | 1 | 0.083 | 16,328 | $14.64 | $239,042
Interview | 69,500 | 1 | 1.000 | 69,500 | 14.64 | 1,017,480
Clinical Follow-up Certification | 90 | 1 | 1.000 | 90 | 14.64 | 1,318
Clinical Follow-up Interview | 1,500 | 1 | 1.000 | 1,500 | 14.64 | 21,960
Screening Verification | 5,560 | 1 | 0.067 | 373 | 14.64 | 5,461
Interview Verification | 10,425 | 1 | 0.067 | 698 | 14.64 | 10,219
Total | 196,810 |  |  | 88,489 |  | 1,295,480

Send comments to Summer King, SAMHSA Reports Clearance Officer, Room 8-1099, One Choke Cherry Road, Rockville, MD 20857 AND e-mail a copy to summer.king@samhsa.hhs.gov. Written comments should be received within 30 days of this notice.

Dated: October 8, 2010.
Elaine Parry,
Director, Office of Management, Technology and Operations.

[FR Doc. 2010-26077 Filed 10-14-10; 8:45 am]

BILLING CODE 4162-20-P